Title 3—

The President

Proclamation 9422 of April 11, 2016

National Equal Pay Day, 2016

By the President of the United States of America

A Proclamation

Our Nation is built on the basic promise of a fair shot for all our people. Women in the United States still do not always receive equal pay for equal work. When women are paid less for doing the same jobs as men, it undermines our most fundamental beliefs as Americans. Every year, we mark how far into the new year women would have to work in order to earn the same as men did in the previous year, and on this day, we reaffirm our commitment to ensuring equal pay for all.

Although small gains have been made in recent years, the typical woman working full-time, year-round earns only 79 cents for every dollar earned by the typical man, and women of color earn even less relative to the typical white, non-Hispanic man—60 cents on the dollar for the typical black woman and 55 cents on the dollar for the typical Hispanic woman. Women are increasingly the breadwinners of American households, and when they are not paid equally, or are underrepresented in certain higher-paying occupations, their ability to save for retirement is hindered and hardworking families face greater difficulty meeting their basic financial needs. Pay discrimination puts greater strain on families to cover costs like child care or health care, and it holds our economy back from achieving its full potential. We must continue taking action to address issues of equal pay, pay secrecy, pregnancy discrimination, and unconscious bias. The gender pay gap in the United States is among the largest of many industrialized nations, and because women make up nearly half our workforce, this disparity impacts us all. The pay gap between men and women offends our values as Americans, and as long as it exists, our businesses, our communities, and our Nation will suffer the consequences.

My Administration is dedicated to reaching a day in which all women are paid equally for their work. Earlier this year, the Equal Employment Opportunity Commission, in partnership with the Department of Labor, announced a new proposal to gather pay data by race, ethnicity, and gender from businesses with at least 100 employees. This will help businesses make sure their employees are being treated equally, and it will help us enforce existing equal pay laws. This proposal originated in part with my National Equal Pay Task Force, which has helped coordinate a Federal effort to crack down on violations of equal pay laws. Our Nation has taken significant steps toward achieving pay equity over the last 7 years—from the first piece of legislation I signed as President, the Lilly Ledbetter Fair Pay Act, which makes it easier for women to challenge unequal pay, to my Executive Order prohibiting Federal contractors from discriminating against employees who discuss their compensation. But much work remains to be done, which is why I continue to call on the Congress to pass the Paycheck Fairness Act—a commonsense measure that would bolster the ability of women to fight pay discrimination.

When all people know their country is invested in their success, we are all better off. Together, we must rid our society of the injustice that is pay discrimination and restore the promise that is the right of every American: the idea that with hard work, anyone can reach for their dreams and know no limits but the scope of their aspirations. On National Equal Pay Day, we renew our belief in equal pay for equal work, and we rededicate ourselves to building a future in which women are paid based on their merits.

NOW, THEREFORE, I, BARACK OBAMA, President of the United States of America, by virtue of the authority vested in me by the Constitution and the laws of the United States, do hereby proclaim April 12, 2016, as National Equal Pay Day. I call upon all Americans to recognize the full value of women's skills and their significant contributions to the labor force, acknowledge the injustice of wage inequality, and join efforts to achieve equal pay.

IN WITNESS WHEREOF, I have hereunto set my hand this eleventh day of April, in the year of our Lord two thousand sixteen, and of the Independence of the United States of America the two hundred and fortieth.

[FR Doc. 2016-08848

Filed 4-13-16; 11:15 am]

Billing code 3295-F6-P